DEPARTMENT OF ENERGY

Federal Energy Regulatory Commission

Notice of Application for Non-Project Use of Project Lands and Waters, Amendment of License, and Soliciting Comments, Motions to Intervene, and Protests

June 22, 2006.

Take notice that the following application has been filed with the Commission and is available for public inspection:

a. Application Type: Non-Project Use of Project Lands and Waters and Amendment of License.

b. Project No: 2452-191.

c. Date filed: June 12, 2006.

d. Applicant: Consumers Energy Company.

e. Name of Project: Hardy Project.

f. Location: The project is located on the Muskegon River in Newaygo County, MI.

g. Filed Pursuant to: Federal Power Act, 16 U.S.C. 791(a)-825(r) and 799 and 801.

h. Applicant Contact: James Bernier, 330 Chestnut St., Cadillac, MI 49601, (231) 779-5507.

i. FERC Contact: Hillary Berlin at 202-502-8915, or e-mail hillary.berlin@ferc.gov.

j. Deadline for filing comments and or motions: July 21, 2006.

All documents (original and eight copies) should be filed with: Magalie R. Salas, Secretary, Federal Energy Regulatory Commission, 888 First Street, NE., Washington, DC 20426. Please include the project number (P-2452-191) on any comments or motions filed. Comments, protests, and interventions may be filed electronically via the Internet in lieu of paper. See, 18 CFR 385.2001(a)(1)(iii) and the instructions on the Commission's Web site under the “e-Filing” link. The Commission strongly encourages e-filings.

k. Description of Application: The licensee requests Commission approval to convey an interest in project land to Muskegon River Development (MRD) to operate a private marina by reconstructing existing docks at the former Buck's Landing to increase the number of boat slips from 18 to 38. The proposal may include the future development of a public, non-motorized, unpaved foot path on project lands. The licensee also requests to amend their land management plan to designate a proposed Davis Bridge Park as a public recreation facility and add it to an existing recreational lease. Developing Davis Bridge Park would involve the upgrade of an existing access road, installation of an entry station, development of car and trailer parking spaces, installation of a single boat ramp with upstream and downstream erosion control measures, and picnic tables.

l. Location of Application: The filing is available for review at the Commission in the Public Reference Room, located at 888 First Street, NE., Room 2A, Washington, DC 20426, or may be viewed on the Commission's Web site at http://www.ferc.gov using the “eLibrary” link. Enter the docket number excluding the last three digits in the docket number field to access the document. For assistance, please contact FERC Online support at FERCOnlineSupport@ferc.gov or toll free (866) 208-3676 or TTY, contact (202) 502-8659.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Filing and Service of Responsive Documents: Any filings must bear in all capital letters the title “COMMENTS”, “RECOMMENDATIONS FOR TERMS AND CONDITIONS”, “PROTEST”, or “MOTION TO INTERVENE”, as applicable, and the Project Number of the particular application to which the filing refers. A copy of any motion to intervene must also be served upon each representative of the Applicant specified in the particular application.

p. Agency Comments: Federal, state, and local agencies are invited to file comments on the described application. A copy of the application may be obtained by agencies directly from the Applicant. If an agency does not file comments within the time specified for filing comments, it will be presumed to have no comments. One copy of an agency's comments must also be sent to the Applicant's representatives.

q. Comments, protests and interventions may be filed electronically via the Internet in lieu of paper. See, 18 CFR 385.2001(a)(1)(iii) and the instructions on the Commission's Web site at http://www.ferc.gov under the “e-Filing” link.

Magalie R. Salas,
Secretary.

[FR Doc. E6-10170 Filed 6-27-06; 8:45 am]

BILLING CODE 6717-01-P